DEPARTMENT OF COMMERCE

National Oceanic and Atmospheric Administration

Federal Consistency Appeal by Villa Marina Yacht Harbour, Inc. From an Objection by the Puerto Rico Planning Board

AGENCY: National Oceanic and Atmospheric Administration (NOAA), Department of Commerce (Commerce).

ACTION: Notice of closure—administrative appeal decision record.

SUMMARY: This announcement provides notice that the decision record has been closed for an administrative appeal filed with the Department of Commerce by Villa Marina Yacht Harbour, Inc. (Villa Marina).

DATES: The decision record for the Villa Marina administrative appeal closed on January 30, 2006.

ADDRESSES: Materials from the appeal record are available at the Office of the Assistant General Counsel for Ocean Services, National Oceanic and Atmospheric Administration, U.S. Department of Commerce, 1305 East-West Highway, Silver Spring, MD 20910.

FOR FURTHER INFORMATION CONTACT: Odin Smith, Attorney-Advisor, NOAA Office of the General Counsel, 301-713-7391.

SUPPLEMENTARY INFORMATION: Villa Marina has filed a notice of appeal with the Secretary of Commerce (Secretary) pursuant to section 307(c)(3)(A) of the Coastal Zone Management Act of 1972 (CZMA), and implementing regulations found at 15 CFR part 930, subpart H. Villa Marina appeals an objection raised by the Puerto Rico Planning Board to a consistency certification contained within its permit application to the Army Corps of Engineers to expand an existing marina.

Applicable provision of the CZMA require that a notice be published in the Federal Register indicating the date on which the decision record closed. Accordingly, notice is hereby provided that the decision record for this appeal closed on January 30, 2006.

For additional information about this appeal contact Odin Smith, 301-713-7392.

Dated: January 31, 2006.
James R. Walpole,
General Counsel.

[FR Doc. 06-1110 Filed 2-7-06; 8:45 am]

BILLING CODE 3510-08-M